DEPARTMENT OF ENERGY

Federal Energy Regulatory Commission

Combined Notice of Filings #1

July 7, 2009.

Take notice that the Commission received the following electric corporate filings:

Docket Numbers: EC09-90-000.

Applicants: PPL Edgewood Energy, LLC.

Description: PPL Edgewood Energy, LLC et al. submits application for authorization pursuant to Section 203 of the Federal Power Act and Request for Expedited Action.

Filed Date: 07/02/2009.

Accession Number: 20090707-0030.

Comment Date: 5 p.m. Eastern Time on Thursday, July 23, 2009.

Take notice that the Commission received the following exempt wholesale generator filings:

Docket Numbers: EG09-72-000.

Applicants: Prairie Breeze Wind Energy LLC.

Description: Notice of Self-Certification of Exempt Wholesale Generator Status of Prairie Breeze Wind Energy LLC.

Filed Date: 07/07/2009.

Accession Number: 20090707-5070.

Comment Date: 5 p.m. Eastern Time on Tuesday, July 28, 2009.

Take notice that the Commission received the following electric rate filings:

Docket Numbers: ER96-1361-015; ER00-1770-021; ER01-202-010; ER02-453-012; ER04-472-009; ER05-1054-005; ER07-903-004; ER08-1336-002; ER09-886-002; ER98-3096-017; ER98-4138-011; ER99-2781-013.

Applicants: Atlantic City Electric Co.; Conectiv Energy Supply, Inc., Conectiv Atlantic Generation, LLC, Conectiv Delmarva Generation, Inc.; Potomac Power Resources, LLC; Conectiv Bethlehem, LLC; Fauquier Landfill Gas, LLC; Eastern Landfill Gas, LLC; Bethlehem Renewable Energy, LLC; Energy Systems North East, LLC; Conectiv Vineland Solar, LLC; Pepco Power Resources, LLC; Potomac Electric Power Company; Delmarva Power & Light Company.

Description: Atlantic City Electric Co. et al. submit an Amendment to Notification of Change in Status.

Filed Date: 07/01/2009.

Accession Number: 20090701-5300.

Comment Date: 5 p.m. Eastern Time on Wednesday, July 22, 2009.

Docket Numbers: ER98-4421-013; ER96-2350-030; ER99-3677-012; ER99-791-011; ER99-806-010; ER01-570-013.

Applicants: Consumers Energy Company; CMS Energy Resource Management Company; CMS Generation Michigan Power, L.L.C.; Grayling Generating Station Limited Partnership; Genesee Power Station Limited Partnership; Dearborn Industrial Generation, L.L.C.

Description: Consumers Energy Co et al. submits amended sheets to their MBR tariffs to reflect their Category 2 seller designation.

Filed Date: 06/30/2009.

Accession Number: 20090706-0060.

Comment Date: 5 p.m. Eastern Time on Tuesday, July 21, 2009.

Docket Numbers: ER01-313-011; ER01-424-011.

Applicants: California Independent System Operator Corporation; Pacific Gas and Electric Company.

Description: Informational Report of the California Independent System Operator Corporation.

Filed Date: 06/30/2009.

Accession Number: 20090630-5347.

Comment Date: 5 p.m. Eastern Time on Tuesday, July 21, 2009.

Docket Numbers: ER01-1305-016.

Applicants: Westar Generating, Inc.

Description: Westar Generating, Inc. 2008 Informational Filing.

Filed Date: 07/01/2009.

Accession Number: 20090701-5263.

Comment Date: 5 p.m. Eastern Time on Wednesday, July 22, 2009.

Docket Numbers: ER03-198-010.

Applicants: Pacific Gas and Electric Company.

Description: Notice of Non-Material Change in Status of Pacific Gas and Electric Company.

Filed Date: 07/06/2009.

Accession Number: 20090706-5156.

Comment Date: 5 p.m. Eastern Time on Monday, July 27, 2009.

Docket Numbers: ER06-1410-005; ER01-1570-002.

Applicants: Entergy Nuclear Palisades, LLC; Northern Iowa Windpower LLC.

Description: Entergy Nuclear Palisades, LLC et al. submits updated market power analysis to support the continued allowance of market based rates.

Filed Date: 06/30/2009.

Accession Number: 20090701-0154.

Comment Date: 5 p.m. Eastern Time on Tuesday, July 21, 2009.

Docket Numbers: ER08-750-001; ER08-751-001; ER08-752-001.

Applicants: Entergy Services, Inc.

Description: Compliance Refund Report of Entergy Services, Inc.

Filed Date: 07/02/2009.

Accession Number: 20090702-5185.

Comment Date: 5 p.m. Eastern Time on Thursday, July 23, 2009.

Docket Numbers: ER09-335-005; ER05-1232-019; ER07-1117-010.

Applicants: J.P. Morgan Ventures Energy Corporation; BE KJ LLC

Description: Updated Market Power Analysis and Order Nos 697 and 697-A Compliance Filing of J.P. Morgan Ventures Energy Corporation, et al.

Filed Date: 06/30/2009.

Accession Number: 20090630-5340.

Comment Date: 5 p.m. Eastern Time on Tuesday, July 21, 2009.

Docket Numbers: ER09-405-001.

Applicants: New York Independent System Operator, Inc.

Description: New York Independent System Operator, Inc.'s Second Report on Restitution Discussions.

Filed Date: 07/01/2009.

Accession Number: 20090701-5299.

Comment Date: 5 p.m. Eastern Time on Wednesday, July 22, 2009.

Docket Numbers: ER09-506-001.

Applicants: Midwest Independent Transmission System Operator, Inc.

Description: Midwest Independent Transmission System Operator, Inc. submits proposed revisions to its Open Access Transmission, Energy and Operating Reserve Markets Tariff pursuant to the Commission's 6/5/09 directive.

Filed Date: 07/02/2009.

Accession Number: 20090706-0053.

Comment Date: 5 p.m. Eastern Time on Thursday, July 23, 2009.

Docket Numbers: ER09-754-001.

Applicants: Florida Power Corporation.

Description: Progress Energy Florida, Inc. submits a revised agreement with Seminole Electric Coop, Inc. for Supplemental Resale Service etc., Rate Schedule FERC No 106.

Filed Date: 06/30/2009.

Accession Number: 20090701-0021.

Comment Date: 5 p.m. Eastern Time on Tuesday, July 21, 2009.

Docket Numbers: ER09-1141-001.

Applicants: J.P. Morgan Commodities Canada Corporation.

Description: J.P. Morgan Commodities Canada Corp. submits response to FERC's request regarding Petition for Acceptance of Initial Tariff, Waivers and Blanket Authority etc.

Filed Date: 07/02/2009.

Accession Number: 20090706-0055.

Comment Date: 5 p.m. Eastern Time on Thursday, July 23, 2009.

Docket Numbers: ER09-1286-002.

Applicants: Elizabethtown Energy, LLC.

Description: Elizabethtown submits First Substitute Original Sheet 1 et al. to FERC Electric Tariff, Original Volume 1.

Filed Date: 07/02/2009.

Accession Number: 20090706-0043.

Comment Date: 5 p.m. Eastern Time on Thursday, July 23, 2009.

Docket Numbers: ER09-1287-002.

Applicants: Lumberton Energy, LLC.

Description: Lumberton Energy, LLC submits 2nd Supplement to the Petition for Acceptance of Initial Tariff, Waivers and Blanket Authority and request for Expedited Consideration etc.

Filed Date: 07/02/2009.

Accession Number: 20090706-0044.

Comment Date: 5 p.m. Eastern Time on Thursday, July 23, 2009.

Docket Numbers: ER09-1400-000.

Applicants: Milford Wind Corridor Phase I, LLC.

Description: Milford Wind Corridor Phase 1, LLC submits FERC Electric Tariff, Original Volume No. 1.

Filed Date: 07/06/2009.

Accession Number: 20090707-0104.

Comment Date: 5 p.m. Eastern Time on Monday, July 27, 2009.

Docket Numbers: ER09-1402-000.

Applicants: Arizona Public Service Company.

Description: Arizona Public Service Company submits Second Revised Sheet 2 et al. to FERC Electric Tariff, Volume 5, to be effective 8/31/09.

Filed Date: 07/02/2009.

Accession Number: 20090706-0054.

Comment Date: 5 p.m. Eastern Time on Thursday, July 23, 2009.

Docket Numbers: ER09-1403-000.

Applicants: Wisconsin Electric Power Company.

Description: Wisconsin Electric Power Company submits Second Revised Sheet 61 et al. to Fourth Revised Rate Schedule 90 et al. to be effective 9/1/09.

Filed Date: 07/02/2009.

Accession Number: 20090706-0052.

Comment Date: 5 p.m. Eastern Time on Thursday, July 23, 2009.

Docket Numbers: ER09-1404-000.

Applicants: Wisconsin Electric Power Company.

Description: Wisconsin Electric Power Co. submits revisions to the Restated Power Service Agreement with Alger Delta Cooperative Electric Association.

Filed Date: 07/02/2009.

Accession Number: 20090706-0051.

Comment Date: 5 p.m. Eastern Time on Thursday, July 23, 2009.

Docket Numbers: ER09-1405-000.

Applicants: Wisconsin Electric Power Company.

Description: Wisconsin Electric Power Company submits certain tariff revisions to the Restated Power Service Agreement with the City of Crystal Falls, Michigan, to be effective 9/1/09.

Filed Date: 07/02/2009.

Accession Number: 20090706-0050.

Comment Date: 5 p.m. Eastern Time on Thursday, July 23, 2009.

Docket Numbers: ER09-1406-000.

Applicants: Wisconsin Electric Power Company.

Description: Wisconsin Electric Power Company submits Third Revised Sheet 29 et al. to Second Revised Rate Schedule FERC No. 89 et al. to be effective 9/1/09.

Filed Date: 07/02/2009.

Accession Number: 20090706-0049.

Comment Date: 5 p.m. Eastern Time on Thursday, July 23, 2009.

Docket Numbers: ER09-1407-000.

Applicants: Wisconsin Electric Power Company.

Description: Wisconsin Electric Power Company submits Second Revised Sheet 44 et al. to FERC Electric Tariff, Original Volume 9 to be effective 9/1/09.

Filed Date: 07/02/2009.

Accession Number: 20090706-0048.

Comment Date: 5 p.m. Eastern Time on Thursday, July 23, 2009.

Docket Numbers: ER09-1408-000.

Applicants: ISO New England Inc. & New England Power.

Description: ISO New England Inc. et al. submits 3rd Revised Sheet 558 et al. to FERC Electric Tariff 3, Open Access Transmission Tariff Section II.44—Scheduling and Curtailment Rules for Real-Time External Transactions.

Filed Date: 07/02/2009.

Accession Number: 20090706-0047.

Comment Date: 5 p.m. Eastern Time on Thursday, July 23, 2009.

Docket Numbers: ER09-1409-000.

Applicants: PacifiCorp.

Description: PacifiCorp submits a Transmission Interconnection Agreement for Points of Delivery dated 6/4/09 with Ephraim Light & Power Dept.

Filed Date: 07/02/2009.

Accession Number: 20090706-0046.

Comment Date: 5 p.m. Eastern Time on Thursday, July 23, 2009.

Docket Numbers: ER09-1410-000.

Applicants: PacifiCorp.

Description: PacifiCorp submits an updated Exhibit B to the Network Integration Transmission Service Agreement between PacifiCorp Transmission & PacifiCorp Energy etc.

Filed Date: 07/02/2009.

Accession Number: 20090706-0045.

Comment Date: 5 p.m. Eastern Time on Thursday, July 23, 2009.

Docket Numbers: ER09-1411-000.

Applicants: PJM Interconnection L.L.C.

Description: PJM Interconnection, LLC submits Original Service Agreement 2204 to FERC Electric Tariff, Sixth Revised Volume 1.

Filed Date: 07/06/2009.

Accession Number: 20090706-0057.

Comment Date: 5 p.m. Eastern Time on Monday, July 27, 2009.

Docket Numbers: ER09-1413-000.

Applicants: PJM Interconnection, LLC.

Description: PJM Interconnection, LLC submits executed interconnection service agreements.

Filed Date: 07/06/2009.

Accession Number: 20090707-0102.

Comment Date: 5 p.m. Eastern Time on Monday, July 27, 2009.

Docket Numbers: ER09-1414-000; ER09-1414-001.

Applicants: GDF SUEZ Energy Marketing NA, Inc.

Description: GDF SUEZ Energy Marketing NA, Inc. submits application requesting the Commission make a finding that it qualifies as a Category 1 Seller in the Central, SPP, Southwest and Northwest Regions under ER09-1414.

Filed Date: 06/30/2009.

Accession Number: 20090707-0105.

Comment Date: 5 p.m. Eastern Time on Tuesday, July 21, 2009.

Take notice that the Commission received the following open access transmission tariff filings:

Docket Numbers: OA07-32-009; OA08-59-005; OA08-75-001; OA08-92-001.

Applicants: Entergy Services, Inc.

Description: Compliance Filing of Entergy Services, Inc.

Filed Date: 07/06/2009.

Accession Number: 20090706-5140.

Comment Date: 5 p.m. Eastern Time on Monday, July 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-16755 Filed 7-14-09; 8:45 am]

BILLING CODE 6717-01-P